DEPARTMENT OF THE INTERIOR

National Park Service

Delaware Water Gap National Recreation Area Draft Environmental Assessment (EA)

AGENCY: National Park Service, Interior.

ACTION: Notice of release of draft environmental assessment.

SUMMARY: This notice announces the release of a draft environmental assessment (EA) on a proposal to construct the Joseph M. McDade Recreational Trail within the Delaware Water Gap National Recreation Area.

EA Comment Period: Comments on or before August 18, 2000.

Copies available at: Website: www.nps.gov/dewa

Park Headquarters, River Road, Bushkill, PA 18324.

Kemp Library, East Stroudsburg University, E Stroudsburg, PA 18301.

State Library of PA, PO Box 1601, Harrisburg, PA 17105.

Easton Area Public Library, 6th and Church Street, Easton, PA 18042.

Sussex County Library, 125 Morris Turnpike, Newton, NJ 07860.

New Jersey State Library, 185 West State Street CN 520, Trenton, NJ 08625.

Eastern Monroe Public Library, 1002 North Ninth Street, Stroudsburg, PA 18360.

Pike County Library, 201 Broad Street, Milford, PA 18337.

Warren County Library, 199 Hardwick St., Belvidere, NJ 07823.

This draft environmental assessment, prepared by the National Park Service, deals with the environmental consequences of constructing a 32-mile trail within the Delaware Water Gap National Recreation Area (DWGNRA). Designated by Congress as the “McDade Recreational Trail”, it is intended to parallel the Delaware River on the Pennsylvania-side of the park, providing access to the two largest communities bordering DWGNRA: Shawnee-on-the-Delaware to the south and the borough of Milford to the north. The trail would follow historic traces, connecting historic properties, existing facilities and a variety of natural environments, thus providing an intimate glimpse of the natural and cultural history of the area. The trail would also offer a variety of difficulty levels for a wide population, including those use wheelchairs. Trail use would be restricted to hiking (including wheelchairs in some sections), biking and cross-country skiing.

SUPPLEMENTARY INFORMATION: This environmental assessment is the third phase of a series of planning efforts that have led to this proposal. In 1987, the park's General Management Plan began the process by identifying the need for a park trails system. Recently, the park adopted a Park Trails Plan (PTP) under an amendment to that 1987 General Management Plan (GMPA). This PTP/GMPA called for a primary trail or “spine” that parallels the Delaware River on each side of the park as the highest trail-development priority. These spines would later be the frameworks for a network of park trails. In 1996, Congress appropriated funding for the spine on the Pennsylvania side which was designated as the Joseph M. McDade Recreational Trail.

The EA is available for public comment. Any member of the public may file a written comment. Comments should be addressed to the Superintendent, Delaware Water Gap National Recreation Area, River Road, Bushkill, PA 18324. Public workshops are tentatively scheduled for August 9 at 10 a.m. and August 10 at 7:00 p.m. at the Bushkill Visitor Center in Bushkill, Pennsylvania.

FOR FURTHER INFORMATION CONTACT: Superintendent, Delaware Water Gap National Recreation Area, Bushkill, PA 18324, 717-588-2418.

Dated: July 6, 2000.
William G. Laitner,
Superintendent.

Congressional Listing for Delaware Water Gap NRA

Honorable Frank Lautenberg, U.S. Senate, SH-506 Hart Senate Office Building, Washington, DC 20510-3002.

Honorable Robert G. Torricelli, U.S. Senate, Washington, DC 20510-3001.

Honorable Richard Santorum, U.S. Senate, SR 120 Senate Russell Office Bldg., Washington, DC 20510.

Honorable Arlen Specter, U.S. Senate, SH-530 Hart Senate Office Bldg., Washington, DC 20510-3802.

Honorable Paul McHale, U.S. House of Representatives, 511 Cannon House Office Bldg., Washington, DC 20515-3815.

Honorable Joseph McDade, U.S. House of Representatives, 2370 Rayburn House Office Bldg., Washington, DC 20515-3810.

Honorable Margaret Roukema, U.S. House of Representatives, 2244 Rayburn House Office Bldg., Washington, DC 20515-3005.

Honorable Tom Ridge, State Capitol, Harrisburg, PA 17120.

Honorable Christine Whitman, State House, Trenton, NJ 08625.

Honorable Joe Battisto, State Representative, 206 South Capitol Building, Harrisburg, PA 17120-0028

[FR Doc. 00-18034 Filed 7-17-00; 8:45 am]

BILLING CODE 4310-70-P